EQUAL EMPLOYMENT OPPORTUNITY COMMISSION

29 CFR Part 1614

RIN 3046-AA94

Affirmative Action for Individuals With Disabilities in Federal Employment; Correction

AGENCY: Equal Employment Opportunity Commission.

ACTION: Final rule; correction.

SUMMARY: The Equal Employment Opportunity Commission (EEOC or Commission) is correcting a final rule that appeared in the Federal Register of January 3, 2017 (82 FR 654). The document amended the regulations that require federal agencies to engage in affirmative action for individuals with disabilities, clarifying the obligations that the Rehabilitation Act of 1973 imposes on federal agencies, as employers, that are over and above the obligation not to discriminate on the basis of disability. The document published January 3 neglected to indicate its effective date. This document corrects that omission. The applicability date remains January 3, 2018.

DATES: Effective March 6, 2017.

FOR FURTHER INFORMATION CONTACT: Christopher Kuczynski, Assistant Legal Counsel, (202) 663-4665, or Aaron Konopasky, Senior Attorney-Advisor, (202) 663-4127 (voice), or (202) 663-7026 (TTY), Office of Legal Counsel, U.S. Equal Employment Opportunity Commission. (These are not toll free numbers.) Requests for this document in an alternative format should be made to the Office of Communications and Legislative Affairs at (202) 663-4191 (voice) or (202) 663-4494 (TTY). (These are not toll free numbers.)

SUPPLEMENTARY INFORMATION: In FR Doc. 2016-31397 appearing on page 654 in the Federal Register of Tuesday, January 3, 2017, the following correction is made:

1. On page 654, in the first column, in DATES:, “Effective date: This final rule will be applicable on March 6, 2017.” is corrected to read “Effective date: This final rule will be effective March 6, 2017.”

Dated: January 5, 2017.
For the Commission.
Peggy R. Mastroianni,
Legal Counsel.

[FR Doc. 2017-00340 Filed 1-10-17; 8:45 am]

BILLING CODE 6570-01-P